ENVIRONMENTAL PROTECTION AGENCY

[FRL-8940-4]

EPA Science Advisory Board Staff Office; Notification of Two Public Teleconferences of the Chartered Science Advisory Board: Additional Information

AGENCY: Environmental Protection Agency (EPA).

ACTION: Notice.

SUMMARY: In a Federal Register notice dated July 15, 2009, the EPA Science Advisory Board (SAB) Staff Office announced a public teleconference on August 28, 2009 for a chartered SAB quality review of its draft report on the Agency's Expert Elicitation White Paper. That teleconference will occur as announced, but will include the addition of a briefing on the SAB Integrated Nitrogen Committee draft report. The briefing will provide information in preparation for a future quality review of the Integrated Nitrogen Committee report to be announced in a future Federal Register notice. This corrected notice announces the addition of the Integrated Nitrogen Committee.

DATES: The public teleconference date will be Friday, August 28, 2009 from 2 p.m. to 3:30 p.m. (all times are Eastern Time).

FOR FURTHER INFORMATION CONTACT: Mr. Thomas Miller, Designated Federal Officer (DFO), EPA Science Advisory Board (1400F), (202) 343-9982.

SUPPLEMENTARY INFORMATION: The EPA published a document in the Federal Register notice dated July 15, 2009, FR Doc. E9-16842, on pages 34348-34349, the EPA Science Advisory Board (SAB) Staff Office announced a public teleconference on August 28, 2009 for a chartered SAB quality review of its draft report on the Agency's Expert Elicitation White Paper. Background (c) as follows is being added for discussion at the meeting.

(c) Briefing To Prepare for the Quality Review of the SAB's Draft Integrated Nitrogen Research Report: During this teleconference, the SAB will also receive a briefing to help Board members prepare for a future quality review of a draft SAB Integrated Nitrogen Committee draft report. The SAB quality review will occur at a future public meeting or teleconference yet to be announced. The briefing will summarize the Committee's original study on reactive nitrogen. Reactive nitrogen, a form of nitrogen consisting mainly of ammonium and nitrate, is “fixed” by natural or human-driven processes or recycled from decaying organic matter. Increasing quantities of reactive nitrogen released by human activities, such as the production and use of synthetic fertilizers, burning of fossil fuel, and planting of nitrogen-fixing crops currently surpasses the amount of nitrogen fixed by natural processes (e.g., microbial activities, wildfire). Adverse environmental effects may occur when reactive nitrogen occurs in amounts that exceed what the ecosystem can normally use or recycle. Adverse effects may include degradation of air and water quality, harmful algae blooms, hypoxia, fish kills, loss of drinking water supplies, loss of biodiversity, forest declines, and human health effects.

The SAB Integrated Nitrogen Committee undertook this study to assess linkages among the environmental effects of reactive nitrogen and to explore their implications for nitrogen research and risk management. The study recommends a more integrated approach to reactive nitrogen research and identifies opportunities for integrated approaches for nitrogen management.

Information about the work of the SAB Integrated Nitrogen Committee is available on the SAB Web site at http://yosemite.epa.gov/sab/sabproduct.nsf/fedrgstr_activites/Nitrogen%20Project?OpenDocument.

Dated: July 30, 2009.
Anthony Maciorowski,
Deputy Director, EPA Science Advisory Board Staff Office.

[FR Doc. E9-18697 Filed 8-4-09; 8:45 am]

BILLING CODE 6560-50-P